DEPARTMENT OF TRANSPORTATION

National Highway Traffic Safety Administration

[Docket No. NHTSA-2005-23171; Notice 1]

Bridgestone Firestone North America Tire, LLC, Receipt of Petition for Decision of Inconsequential Noncompliance

Bridgestone Firestone North America Tire, LLC (Bridgestone Firestone) has determined that certain tires it produced in 2005 do not comply with S4.3.2 of 49 CFR 571.109, Federal Motor Vehicle Safety Standard (FMVSS) No. 109, “New pneumatic tires.” Bridgestone Firestone has filed an appropriate report pursuant to 49 CFR part 573, “Defect and Noncompliance Reports.”

Pursuant to 49 U.S.C. 30118(d) and 30120(h), Bridgestone Firestone has petitioned for an exemption from the notification and remedy requirements of 49 U.S.C. Chapter 301 on the basis that this noncompliance is inconsequential to motor vehicle safety.

This notice of receipt of Bridgestone Firestone's petition is published under 49 U.S.C. 30118 and 30120 and does not represent any agency decision or other exercise of judgment concerning the merits of the petition.

Affected are a total of approximately 50 P205/70R15 Le Mans Champion SE tires produced in 2005. S4.3.2 of FMVSS No. 109 refers to 49 CFR 575.4, section (d) which requires that the sidewall stamping include the date of manufacture. The noncompliant tires are stamped HYMOLCM, while the correct stamping including the date of manufacture should be HYMOLCM2705.

Bridgestone Firestone believes that the noncompliance is inconsequential to motor vehicle safety and that no corrective action is warranted. Bridgestone Firestone states that “[t]he noncompliant tires meet or exceed all performance requirements of FMVSS No. 109 and will have no impact on the operational performance or safety of vehicles on which these tires are mounted.” The petitioner further states,

The week and year of [the] production portion of the Tire Identification Number (TIN) becomes important in the event of a safety campaign so that the consumer may properly identify the recalled tire(s). For this mislabeling, any safety campaign communication, if necessary, could include in the listing of recalled TINs and (sic) the TIN for these tires with the missing or blank date of production so that the consumer would know that these mislabeled tires are included in the recall.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: Go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: January 9, 2006.

(Authority: 49 U.S.C. 30118, 30120, delegations of authority at CFR 1.50 and 501.8)

Issued on: December 5, 2005.
Daniel C. Smith,
Associate Administrator for Enforcement.

[FR Doc. E5-7124 Filed 12-8-05; 8:45 am]

BILLING CODE 4910-59-P